DEPARTMENT OF COMMERCE

International Trade Administration

[A-570-888]

Floor-Standing, Metal-Top Ironing Tables and Certain Parts Thereof From the People's Republic of China: Extension of the Time Limit for the Preliminary Results of the Administrative Review

AGENCY: Import Administration, International Trade Administration, Department of Commerce.

DATES: Effective Date: May 1, 2009.

FOR FURTHER INFORMATION CONTACT: Michael J. Heaney or Robert James, AD/CVD Operations, Office 7, Import Administration, International Trade Administration, U.S. Department of Commerce, 14th Street and Constitution Avenue, NW., Washington, DC 20230; telephone: (202) 482-4475 or (202) 482-0649, respectively.

Background

On August 6, 2004, the Department of Commerce (the Department) published in the Federal Register an antidumping duty order on floor standing, metal-top ironing tables and parts thereof from the People's Republic of China (PRC). See Notice of Amended Final Determination of Sales at Less Than Fair Value and Antidumping Duty Order: Floor-Standing, Metal-Top Ironing Tables and Certain Parts Thereof From the People's Republic of China, 69 FR 47868 (August 6, 2004). The Department received timely requests from Since Hardware (Guangzhou) Co., Ltd. (Since Hardware) and Foshan Shunde Yongjian Housewares and Hardware Co., Ltd (Foshan Shunde), in accordance with 19 CFR 351.213(b)(2), for an administrative review of the antidumping duty order on ironing tables and parts thereof from the PRC, which has an August annual anniversary month. Home Products International Inc., the petitioner, also requested, in accordance with 19 CFR 351.213(b)(1), an administrative review of the antidumping duty order on ironing tables and parts thereof from the PRC for Foshan Shunde and Since Hardware. On September 30, 2008, the Department initiated an administrative review with respect to Foshan Shunde and Since Hardware. See Initiation of Antidumping and Countervailing Duty Administrative Reviews and Requests for Revocation in Part, 73 FR 56795 (September 30, 2008). On October 29, 2008, pursuant to Since Hardware's September 2, 2008, request in accordance with 19 CFR 351.213(c), we deferred our initiation of the 2007-2008 review with respect to Since Hardware. See Initiation of Antidumping and Countervailing Duty Administrative Reviews and Deferral of Administrative Review, 73 FR 64305 (October 29, 2008).

The deadline for completion of the preliminary results in the administrative review for Foshan Shunde is currently May 4, 2009.

Extension of Time Limits for Preliminary Results

Section 751(a)(3)(A) of the Tariff Act of 1930, as amended (the Act), and section 351.213(h)(1) of the Department's regulations require the Department to issue the preliminary results of an administrative review within 245 days after the last day of the anniversary month of the order or suspension agreement for which the administrative review was requested, and the final results of the review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

Pursuant to section 751(a)(3)(A) of the Act and section 351.213(h) of the Department's regulations, we determine that it is not practicable to complete this administrative review within the statutory time limit of 245 days. The Department requires additional time to analyze the production inputs that Foshan Shunde utilized to compile its Section D factors of production response. Additionally, the Department requires additional time to consider comments from interested parties concerning the proper valuation of Foshan Shunde's production inputs. Therefore, in accordance with section 751(a)(3)(A) of the Act and section 351.213(h)(2) of the Department's regulations, the Department is extending the time limit for the completion of these preliminary results by 120 days. The deadline for completion of the preliminary results is now September 1, 2009. The final results will continue to be due 120 days after the date of publication of the notice of preliminary results.

This notice is published in accordance with sections 751(a)(3)(A) and 777(i) of the Act.

Dated: April 24, 2009.
John M. Andersen,
Acting Deputy Assistant Secretary for Antidumping and Countervailing Duty Operations.

[FR Doc. E9-10074 Filed 4-30-09; 8:45 am]

BILLING CODE 3510-DS-P